DEPARTMENT OF COMMERCE

National Oceanic and Atmospheric Administration

[I.D. 110102F]

Endangered and Threatened Species; Take of Anadromous Fish

AGENCY: National Marine Fisheries Service (NMFS), National Oceanic and Atmospheric Administration (NOAA), Commerce.

ACTION: Receipt of an application to modify an existing-scientific research/enhancement permit (1112) and request for comment.

SUMMARY: Notice is hereby given that NMFS has received an application for a permit modification from the Southwest Fisheries Science Center (SWFSC) in Santa Cruz, CA (1112). The modified permit would affect five Evolutionarily Significant Units (ESUs) of salmonids identified in Supplementary Information below. This document serves to notify the public of the availability of the permit modification application for review and comment before a final approval or disapproval is made by NMFS.

DATES: Written comments on the permit application must be received at the appropriate address or fax number (see ADDRESSES) no later than 5 p.m. Pacific Standard Time on December 19, 2002.

ADDRESSES: Written comments on the modification request should be sent to the appropriate office as indicated below. Comments may also be sent via fax to the number indicated for the request. Comments will not be accepted if submitted via e-mail or the Internet. The applications and related documents are available for review in the indicated office, by appointment: Daniel Logan, Protected Species Division, NMFS, 777 Sonoma Avenue, Room 325, Santa Rosa, CA 95404 6528 (ph: 707 575 6053, fax: 707 578 3435). Documents may also be reviewed by appointment in the Office of Protected Resources, F/PR3, NMFS, 1315 East-West Highway, Silver Spring, MD 20910 3226 (301 713 1401).

FOR FURTHER INFORMATION CONTACT: Daniel Logan at phone number 707-575-6053, or e-mail: dan.logan@noaa.gov.

SUPPLEMENTARY INFORMATION:

Authority

Issuance of permits and permit modifications, as required by the Endangered Species Act of 1973 (16 U.S.C. 1531 1543) (ESA), is based on a finding that such permits/modifications: (1) are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222 226).

Those individuals requesting a hearing on an application listed in this notice should set out the specific reasons why a hearing on that application would be appropriate (see ADDRESSES). The holding of such a hearing is at the discretion of the Assistant Administrator for Fisheries, NOAA. All statements and opinions contained in the permit action summaries are those of the applicant and do not necessarily reflect the views of NMFS.

Species Covered in This Notice

This notice is relevant to the following five threatened salmonid ESUs: threatened California Coastal Chinook salmon (Oncorhynchus tshawytscha), threatened Central California Coast coho salmon (O. kisutch), threatened Central California Coast steelhead (O. mykiss), threatened Northern California steelhead, and threatened South-central California Coast steelhead.

Modification Request Received

SWFSC requests a modification to permit 1112 for takes of adult and juvenile ESA-listed Chinook salmon, coho salmon, and steelhead associated with studies monitoring the ecology of salmonids in streams, estuaries, and the coastal ocean of California. Presently, permit 1112 authorizes take of juvenile, endangered, Sacramento River winter-run Chinook salmon. This requested modification would add intentional takes of threatened California Coastal Chinook salmon, threatened Central California Coast coho salmon, threatened Central California Coast steelhead, threatened Northern California Coast steelhead, and threatened South-central California Coast steelhead to SWFSC's permit.

Dated: November 12, 2002.
Susan Pultz,
Acting Chief, Endangered Species Division,Office of Protected Resources, National Marine Fisheries Service.

[FR Doc. 02-29358 Filed 11-18-02; 8:45 am]

BILLING CODE 3510-22-S